DEPARTMENT OF JUSTICE

[OMB Number 1121-0311]

Agency Information Collection Activities; Proposed eCollection eComments Requested; Reinstatement, With Change, of Previously Approved Collection: National Inmate Survey in Prisons (NIS-4P)

AGENCY: Bureau of Justice Statistics, Department of Justice.

ACTION: 60-Day notice.

SUMMARY: The Department of Justice (DOJ), Office of Justice Programs, Bureau of Justice Statistics, will be submitting the following information collection request to the Office of Management and Budget (OMB) for review and approval in accordance with the Paperwork Reduction Act of 1995.

DATES: Comments are encouraged and will be accepted for 60 days until January 31, 2020.

FOR FURTHER INFORMATION CONTACT: If you have additional comments especially on the estimated public burden or associated response time, suggestions, or need a copy of the proposed information collection instrument with instructions or additional information, please contact Amy Lauger, Supervisory Statistician, Institutional Research and Special Projects Unit, Bureau of Justice Statistics, 810 Seventh Street NW, Washington, DC 20531 (email: Amy.Lauger@ojp.usdoj.gov; telephone: 202-307-0711).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether, and if so how, the quality, utility, and clarity of the information to be collected can be enhanced; and

—Minimize the burden of the collection of information on those who are to respond, including through the use of appropriate automated, electronic, mechanical, or other technological collection techniques or other forms of information technology, e.g., permitting electronic submission of responses.

Overview of this information collection:

1 Type of Information Collection: Reinstatement, with change, of a previously approved collection.

2 The Title of the Form/Collection: National Inmate Survey in Prisons (NIS-4P).

3 The agency form number, if any, and the applicable component of the Department sponsoring the collection: There is no agency form number at this time. The applicable component within the Department of Justice is the Bureau of Justice Statistics, in the Office of Justice Programs.

4 Affected public who will be asked or required to respond, as well as a brief abstract: Respondents will primarily be State, Local, or Tribal Government entities. The work under this clearance will be used to produce estimates for the incidence and prevalence of sexual victimization within correctional facilities as required under the Prison Rape Elimination Act of 2003 (Pub. L. 108-79). The Bureau of Justice Statistics uses this information in published reports and for the U.S. Congress, Executive Office of the President, practitioners, researchers, students, the media, and others interested in criminal justice statistics.

In 2003, the Prison Rape Elimination Act (PREA or the Act) was signed into law. The Act requires BJS to “carry out, for each calendar year, a comprehensive statistical review and analysis of the incidence and effects of prison rape.” The Act further instructs BJS to collect survey data: “. . . the Bureau shall . . . use surveys and other statistical studies of current and former inmates . . .”

To implement the Act, BJS developed the National Prison Rape Statistics Program (NPRS), which includes four separate data collection efforts: The Survey on Sexual Violence (SSV), the National Inmate Survey (NIS), the National Survey of Youth in Custody (NSYC), and the National Former Prisoner Survey (NFPS). The NIS collects information on sexual victimization self-reported by inmates held in adult correctional facilities, both prisons and jails. The NIS has been conducted three times, in 2007 (NIS-1), in 2008-09 (NIS-2), and in 2011-12 (NIS-3). Each iteration of NIS was conducted in at least one facility in all 50 states and the District of Columbia. In each iteration of the survey, inmates completed the survey using an audio computer-assisted self-interview (ACASI), whereby they heard questions and instructions via headphones and responded to the survey items via a touch-screen interface.

The collection requested in this notice is the fourth iteration of the National Inmate Survey. For NIS-4, administration of the survey in prisons will take place separately from survey administration in jails. This collection request is specific to conducting the survey in adult prison facilities.

The survey instrument for the NIS-4 in Prisons is slightly modified from the previous iterations. The main difference is the addition of a new set of incident-specific questions administered to respondents who affirmatively indicate they were sexually victimized at some point in the previous 12 months while housed in their current prison facility. These incident-specific questions will provide information to the public on the nature of sexual victimization in prisons, such as where incidents occurred within the facility, the relationship between the victim and the alleged perpetrator(s), and whether the victim suffered any injuries as a result of the incident, among other incident characteristics.

5 An estimate of the total number of respondents and the amount of time estimated for an average respondent to respond: Prior to data collection commencing in 2020, BJS will coordinate the logistics of NIS-4 survey administration with staff at state, local, and tribal correction facilities. Because the administration of this survey in jails is not included in this request, the overall number of burden hours is lower than in the last request approved in 2010 (the jail survey will be submitted under a new OMB number). It is estimated that 150 facility respondents will devote 180 minutes of time to this coordination effort. During data collection in 2020, 77,000 state, local, and tribal adult inmates held in prisons will be interviewed, with the average interview lasting an estimated 35 minutes.

6 An estimate of the total public burden (in hours) associated with the collection: This collection was previously approved for implementation in both adult prisons and jails. The current request will only be implemented in adult prisons, thereby reducing the total number of facility staff and respondents required to participate. The total estimated NIS-4 public burden, inclusive of facility staff and respondent burden estimates, is 45,367 hours. This comprises 450 hours of facility staff burden and 44,917 hours of respondent interviewing burden.

If additional information is required contact: Melody Braswell, Department Clearance Officer, United States Department of Justice, Justice Management Division, Policy and Planning Staff, Two Constitution Square, 145 N Street NE, 3E.405A, Washington, DC 20530.

Dated: November 26, 2019.
Melody Braswell,
Department Clearance Officer for PRA, U.S. Department of Justice.

[FR Doc. 2019-25996 Filed 11-29-19; 8:45 am]

BILLING CODE 4410-18-P